ENVIRONMENTAL PROTECTION AGENCY

40 CFR Part 52

[IN137-1b; FRL-7003-9]

Approval and Promulgation of Implementation Plans; Indiana

AGENCY: Environmental Protection Agency (EPA).

ACTION: Proposed rule.

SUMMARY: EPA is proposing to approve revisions to particulate matter (PM) emissions regulations for Cerestar USA, Inc. (Cerestar). Cerestar is located in Lake County, Indiana. The Indiana Department of Environmental Management (IDEM) submitted the revised regulations on February 16, 2001, as amendments to its State Implementation Plan (SIP). The revisions include the elimination of 18 emission points, the addition of 39 new emission points, and a change in the way the short term emission limits are expressed (from pounds of particulate matter per ton of product to grains per dry standard cubic foot). The revision also changes the name of the facility listed in the rules from American Maize Products (AMAIZO) to Cerestar USA, Inc. These SIP revisions result in an overall decrease in allowed PM emissions of about 48 tons per year (tpy). An air quality modeling analysis conducted by IDEM shows that this SIP revision will not have an adverse effect on PM air quality.

DATES: EPA must receive written comments on this proposed rule by August 17, 2001.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: Matthew Rau, Environmental Engineer, Regulation Development Section, Air Programs Branch (AR-18J), U.S. Environmental Protection Agency, Region 5, 77 West Jackson Boulevard, Chicago, Illinois 60604, (312) 886-6524.

SUPPLEMENTARY INFORMATION: Throughout this document wherever “we,” “us,” or “our” are used we mean EPA.

Table of Contents

I. What action is EPA taking today?

II. Where can I find more information about this proposal and the corresponding direct final rule?

I. What Action is EPA Taking Today?

We are proposing to approve revisions to particulate matter (PM) emissions regulations for Cerestar. Cerestar is located in Lake County, Indiana. IDEM submitted the revised regulations on February 16, 2001, as amendments to its SIP. The revisions include the elimination of 18 emission points, the addition of 39 new emission points, and a change in the way the short term emission limits are expressed (from pounds of particulate matter per ton of product to grains per dry standard cubic feet). The revision also changes the name of the facility listed in the rules from American Maize Products (AMAIZO) to Cerestar USA, Inc. These SIP revisions results in an overall decrease in allowed PM emissions of about 48 tpy.

II. Where Can I Find More Information about This Proposal and the Corresponding Direct Final Rule?

For additional information see the direct final rule published in the rules section of this Federal Register.

Dated: June 13, 2001.
Gail Ginsberg,
Acting Regional Administrator, Region 5.

[FR Doc. 01-17831 Filed 7-17-01; 8:45 am]

BILLING CODE 6560-50-U